DEPARTMENT OF JUSTICE

Drug Enforcement Administration

[Docket No. DEA-392]

Bulk Manufacturer of Controlled Substances Application: Siegfried USA, LLC

ACTION: Notice of application.

DATES: Registered bulk manufacturers of the affected basic classes, and applicants therefore, may file written comments on or objections to the issuance of the proposed registration in accordance with 21 CFR 1301.33(a) on or before June 26, 2017.

ADDRESSES: Written comments should be sent to: Drug Enforcement Administration, Attention: DEA Federal Register Representative/DRW, 8701 Morrissette Drive, Springfield, Virginia 22152.

SUPPLEMENTARY INFORMATION: The Attorney General has delegated his authority under the Controlled Substances Act to the Administrator of the Drug Enforcement Administration (DEA), 28 CFR 0.100(b). Authority to exercise all necessary functions with respect to the promulgation and implementation of 21 CFR part 1301, incident to the registration of manufacturers, distributors, dispensers, importers, and exporters of controlled substances (other than final orders in connection with suspension, denial, or revocation of registration) has been redelegated to the Assistant Administrator of the DEA Diversion Control Division (“Assistant Administrator”) pursuant to section 7 of 28 CFR part 0, appendix to subpart R.

In accordance with 21 CFR 1301.33(a), this is notice that on November 22, 2016, Siegfried USA, LLC, 33 Industrial Park Road, Pennsville, New Jersey 08070 applied to be registered as a bulk manufacturer of the following basic classes of controlled substances:

Controlled substance | Drug code | Schedule
Gamma Hydroxybutyric Acid | 2010 | I
Dihydromorphine | 9145 | I
Hydromorphinol | 9301 | I
Methylphenidate | 1724 | II
Amobarbital | 2125 | II
Pentobarbital | 2270 | II
Secobarbital | 2315 | II
Codeine | 9050 | II
Oxycodone | 9143 | II
Hydromorphone | 9150 | II
Hydrocodone | 9193 | II
Methadone | 9250 | II
Methadone intermediate | 9254 | II
Dextropropoxyphene, bulk (non-dosage forms) | 9273 | II
Morphine | 9300 | II
Oripavine | 9330 | II
Thebaine | 9333 | II
Opium tincture | 9630 | II
Oxymorphone | 9652 | II

The company plans to manufacturer the listed controlled substances in bulk for distribution to its customers.

Dated: April 18, 2017.
Louis J. Milione,
Assistant Administrator.

[FR Doc. 2017-08347 Filed 4-24-17; 8:45 am]

BILLING CODE 4410-09-P